DEPARTMENT OF AGRICULTURE

Rural Housing Service

USDA Section 538 Guaranteed Rural Rental Housing Program 2009 Industry Forums—Open Teleconference and/or Web Conference Meetings

AGENCY: Rural Housing Service, USDA.

ACTION: Notice.

SUMMARY: This notice announces a series of teleconference and/or Web conference meetings regarding the USDA Section 538 Guaranteed Rural Rental Housing Program, which will take place during the months of January, April, July and October in 2009. This notice also outlines suggested discussion topics for the meetings and is intended to notify the general public of their opportunity to participate in the teleconference and/or Web conference meetings.

DATES: The dates and times for the teleconference and/or Web conference meetings will be announced via e-mail to parties registered as described below in FOR FURTHER INFORMATION CONTACT.

FOR FURTHER INFORMATION CONTACT: Any member of the public wishing to register for the calls and obtain the call-in number, access code, Web link and other information for any of the public teleconferences and or Web conferences may contact James F. Carey, Financial and Loan Analyst, Multifamily Housing Guaranteed Loan Division, Rural Development, United States Department of Agriculture, telephone: (202) 401-2307, fax: (202) 205-5066, or e-mail: james.carey@wdc.USDA.gov.

SUPPLEMENTARY INFORMATION: The objectives of this series of teleconferences are as follows:

• Enhance the effectiveness of the Section 538 Guaranteed Rural Rental Housing Program.

• Establish a two-way communications forum to update industry participants and Rural Housing staff.

• Enhance RHS' awareness of the market and other forces that impact the Section 538 Multifamily Guaranteed Loan program.

Topics to be discussed could include but will not be limited to the following:

• Update on the USDA Section 538 Guaranteed Rural Rental Housing Program FY 2008 activities.

• Perspectives on the current state of equity financing and its impact on the Section 538 program.

• Use of the Section 538 program for financing “Workforce Housing”.

• Perspectives on the current state of debt financing and its impact on the Section 538 program.

• Enhancing the use of Section 538 financing with the transfer and/or preservation of Section 515 developments.

Dated: November 12, 2008.
Russell T. Davis,
Administrator, Rural Housing Service.

[FR Doc. E8-28244 Filed 11-26-08; 8:45 am]

BILLING CODE 3410-XV-P